DEPARTMENT OF TRANSPORTATION

Federal Highway Administration

Agency Information Collection Activities: Submission for OMB Review

AGENCY: Federal Highway Administration (FHWA), DOT.

ACTION: Notice and request for comments.

SUMMARY: The FHWA has forwarded the information collection request described in this notice to the Office of Management and Budget (OMB) for review and approval. We published a Federal Register Notice with a 60-day public comment period on this information collection on August 23, 2001 (66 FR 44432). We are required to publish this notice in the Federal Register by the Paperwork Reduction Act of 1995.

DATES: Please submit comments by December 21, 2001.

ADDRESSES: You may send comments to the Office of Information and Regulatory Affairs, Office of Management and Budget, 725 17th Street, NW., Washington, DC 20503, Attention: DOT Desk Officer. You are asked to comment on any aspect of this information collection, including: (1) Whether the proposed collection is necessary for the FHWA's performance; (2) the accuracy of the estimated burden; (3) ways for the FHWA to enhance the quality, usefulness, and clarity of the collected information; and (4) ways that the burden could be minimized, including the use of electronic technology, without reducing the quality of the collected information.

SUPPLEMENTARY INFORMATION: Title: FHWA Highway Design Handbook For Older Drivers and Pedestrians Workshop Participants' Feedback Survey.

Abstract: The FHWA published a revised handbook, “Guidelines and Recommendations to Accommodate Older Drivers and Pedestrians,” in 2001 that documents new research findings and technical developments that occurred since the 1998 publication of the “Older Driver Highway Design Handbook, Recommendation and Guidelines.” The revised Handbook provides practitioners with a practical information source that links older driver road user characteristics to highway design, operational, and traffic engineering recommendations by addressing specific roadway features. A series of workshops began in 1998 and are continuing. The workshops are designed for highway designers, traffic engineers and highway safety specialists involved in the design and operation of highway facilities and are presented in order to familiarize practitioners with the recommendations and guidelines.

The FHWA will conduct a survey of past and continuing workshop participants. This survey is needed to determine if recommendations and guidelines presented to practitioners in workshops are being utilized in new and redesigned highway facilities to accommodate the needs and functional limitations of an aging population of road users. The survey is also needed to gauge the success of the workshop presentations in imparting information and determine if adjustments should be considered for future workshops.

Respondents: Participants in past workshops, including highway designers, highway engineers and highway safety specialists; and future workshop participants.

Frequency: This one-time survey will be conducted initially with a selection of past participants (approximately 500). Thereafter, a survey of participants will be conducted annually, consisting of approximately 50 percent of the participants who attended workshops during that year (approximately 125). The survey will be mailed, and for those participants with known e-mail addresses, the survey will be administered electronically to reduce completion time.

Estimated Total Annual Burden Hours: The FHWA estimates that each respondent will be able to complete the survey in approximately 10 minutes. For the initial survey to approximately 500 respondents, total burden hours would be 84 hours. Future annual surveys to approximately 125 respondents are estimated at 21 burden hours.

For Further Information Contact: David Smith, 202-366-6614, Department of Transportation, Federal Highway Administration, Safety Core Business Unit, 400 Seventh Street, SW., Washington, DC 20590. Office hours are from 7:30 a.m. to 5 p.m., Monday through Friday, except Federal holidays.

Electronic Access: Internet users may access all comments received by the U.S. DOT Dockets, Room PL-401, by using the universal resource locator (URL): http://dms.dot.gov. It is available 24 hours each day, 365 days each year. Please follow the instructions online for more information and help. An electronic copy of this document may be downloaded using a modem and suitable communications software from the Government Printing Office Electronic Bulletin Board Service at telephone number 202-512-1661. Internet users may reach the Federal Register's home page at http://www.nara.gov/fedreg and the Government Printing Office's database at http://www.access.gpo.gov/nara.

Authority: The Paperwork Reduction Act of 1995; 44 U.S.C. Chapter 35, as amended; and 49 CFR 1.48.

Issued on: November 15, 2001.
James R. Kabel,
Chief, Management Programs and, Analysis Division.

[FR Doc. 01-29062 Filed 11-20-01; 8:45 am]

BILLING CODE 4910-22-P